DEPARTMENT OF ENERGY

Office of Energy Efficiency and Renewable Energy

Notice of Request for Information (RFI) on Expanding Hydropower and Pumped Storage's Contribution to Grid Resiliency and Reliability

AGENCY: Office of Energy Efficiency and Renewable Energy, Department of Energy (DOE).

ACTION: Request for information (RFI).

SUMMARY: The U.S. Department of Energy (DOE) Office of Energy Efficiency and Renewable Energy (EERE), Water Power Technologies Office (WPTO) seeks information from the public on understanding, accessing, and utilizing the full potential of the hydropower fleet, including pumped storage, to contribute to electric grid resiliency and reliability. The WPTO also seeks information about opportunities for the existing and potential pumped storage and hydropower fleet to expand its contribution to the grid in the future. This information will help WPTO develop a research portfolio that intends to lower system costs, bring insight to hydropower technology development and research investments, promote optimization of hydroelectric resources, and ultimately support a more secure and reliable electric power system. WPTO seeks concise feedback from all relevant stakeholders.

DATES: Responses to the RFI must be received no later than 5:00 p.m. (ET) on April 6, 2018.

ADDRESSES: Interested parties are to submit comments electronically to WPTORFI@ee.doe.gov. Include “Hydropower RFI” in the subject of the title. It is recommended that attachments with file sizes exceeding 25MB be compressed (i.e., zipped) to ensure message delivery. Only electronic responses will be accepted. Please identify your answers by responding to a specific question or topic if possible. Respondents may answer as many or as few questions as they wish. The complete RFI document is located at https://eere-exchange.energy.gov/.

FOR FURTHER INFORMATION CONTACT: Questions may be addressed to Timothy Welch, Hydropower Program Manager, Water Power Technologies Office, by email at Timothy.Welch@ee.doe.gov, or by phone at 202-586-7055. Further instruction can be found in the RFI document posted on EERE Exchange.

SUPPLEMENTARY INFORMATION: Through this RFI, WPTO seeks input on new research to maximize the value of hydropower's contribution to grid resiliency and reliability today and into the future. This approach includes pumped storage and traditional hydropower, and covers both new technology design as well as modeling and analysis to assess the range of value streams hydropower provides in the current and future power grid. This information/strategy will help build targeted insight into economic, policy and technological barriers, inform future hydropower technology development, and improve the tools by which investment and operational decisions are made.

WPTO is looking for feedback from electric utilities, reliability oversight entities, regulatory commissions, electricity market operators, electric storage developers, hydropower owners and operators, federal hydropower asset managers and marketers, hydropower facility regulators, public and private financing institutions, environmental and recreational non-profits, industry associations, academia, research laboratories, government agencies, and other stakeholders on issues related to pumped storage hydropower and existing hydroelectric facilities. WPTO is specifically interested in understanding critical gaps in pumped storage and hydropower valuation data and analysis; and in barriers to expanding pumped storage and hydropower's value proposition that could be overcome through research investments. This is solely a request for information and not a Funding Opportunity Announcement (FOA). WPTO is not accepting applications at this time. The complete RFI document is located at https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Issued in Washington, DC, on February 21, 2018.
Hoyt Battey,
Acting Director, Water Power Technologies Office, Energy Efficiency and Renewable Energy.

[FR Doc. 2018-03938 Filed 2-26-18; 8:45 am]

BILLING CODE 6450-01-P